ENVIRONMENTAL PROTECTION AGENCY

[ FRL-7929-1]

Proposed CERCLA Administrative Past Cost Recovery Settlement: 47th and Dan Ryan Superfund Site Gustavo and Guadalupe Martinez d/b/a Menchaca Transport Express, and Biddle Sawyer Corporation

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative Agreement for Recovery of Past Response Costs (“Agreement”), issued pursuant to Section 122(h)(1) of CERCLA, concerning the 47th and Dan Ryan Superfund Site in Chicago, Cook County, Illinois, between the United States Environmental Protection Agency (“U.S. EPA” or “the Agency”) and the following Settling Parties:

Gustavo and Guadalupe Martinez individually, d/b/a Menchaca Transport Express; and Biddle Sawyer Corporation

The proposed Agreement contains a settlement between U.S. EPA and Gustavo and Guadalupe Martinez individually and d/b/a Menchaca Transport Express; and Biddle Sawyer Corporation for the payment of a portion of EPA's unreimbursed costs incurred at the 47th and Dan Ryan Superfund Site. The Agreement requires the Settling Parties to pay a total of $90,000 to the EPA Hazardous Substance Superfund. The Agreement also includes a covenant not to sue the Settling Parties pursuant to Section 107(a) of CERCLA, 42 U.S.C. 9607(a).

For thirty (30) days following the date of publication of this notice, the Agency will receive written comments relating to the Agreement. The Agency will consider all comments received and may modify or withdraw its consent to the Agreement if comments received disclose facts or considerations which indicate that the Agreement is inappropriate, improper, or inadequate. The Agency's response to any comments received will be available for public inspection at the following location: Records Center, U.S. EPA, Region 5, 7th Floor, 77 W. Jackson Blvd., Chicago, IL 60604.

DATES: Comments must be submitted on or before June 27, 2005.

Background: On August 8, 2001, a semi-truck and trailer owned by Gustavo and Guadalupe Martinez, individually and d/b/a Menchaca Transport Express, headed east-bound on the Dan Ryan Expressway, overturned on the highway at the 47th Street overpass in Chicago, Cook County, Illinois and spilled its contents of dry azodicarbonamide. The City of Chicago, Illinois Department of Transportation, and U.S. EPA incurred response costs in containing and addressing the impact of the spill. U.S. EPA's emergency response contractors decontaminated the impacted portion of the highway with pressure washers, and sent the rinse water into a bulk liquids trailer for offsite disposal. Impacted soil from along the berm west of the highway, burned debris and other solid waste associated with the incident was drummed up and removed. U.S. EPA response personnel also performed air monitoring and conducted other sampling activities; U.S. EPA also incurred response costs relating to its responsible party search, negotiations and other enforcement costs.

As of March 31, 2005, U.S. EPA's response and enforcement costs for the Site were $190,422.03. The Settling Parties Gustavo and Guadalupe Martinez individually, and d/b/a Menchaca Transport Express (now a defunct entity); and Biddle Sawyer Corporation, the shipper and owner of the hazardous substances at the time of the incident, are jointly and severally liable for the proposed payment under the terms of the Agreement. Miken Cartage, Inc. a transporter which had contracted with Biddle Sawyer Corporation and the driver of the truck owned by Menchaca, is recalcitrant and is not participating in the Agreement. Subject to U.S. EPA's reservations of rights, any response costs which would not be recovered under the terms of the Agreement would be forgiven as against the Settling Parties.

ADDRESSES: The proposed settlement is available for public inspection at the following location: Records Center, U.S. EPA, Region 5, 7th Floor, 77 W. Jackson Blvd., Chicago, IL.

Comments should reference the 47th and Dan Ryan Superfund Site; Gustavo and Guadalupe Martinez d/b/a Menchaca Transport Express; and Biddle Sawyer Corporation; City of Chicago, Cook County, Illinois and U.S. EPA Docket No. V-W-'05-C-818, and should be addressed to Sherry L. Estes, Associate Regional Counsel, 77 West Jackson Blvd., Mail Code C-14J, Chicago, Illinois 60604. Copies of the proposed Agreement may be obtained from Deloris Johnson, Paralegal, Office of Regional Counsel, 77 West Jackson Blvd., Mail Code C-14J, Chicago, Illinois 60604, (312) 886-6806.

FOR FURTHER INFORMATION CONTACT: Sherry L. Estes, Associate Regional Counsel, 77 West Jackson Blvd., Mail Code C-14J, Chicago, Illinois 60604, (312) 886-7164.

Dated: June 9, 2005.
Richard C. Karl,
Director, Superfund Division.

[FR Doc. 05-12653 Filed 6-24-05; 8:45 am]

BILLING CODE 6560-50-P